DEPARTMENT OF AGRICULTURE

Forest Service

Middle Kyle Complex Environmental Impact Statement. Humboldt-Toiyabe National Forest, Spring Mountains National Recreation Area, Clark County, NV

AGENCY: Forest Service, USDA.

ACTION: Notice of intent to prepare an Environmental Impact Statement.

SUMMARY: The USDA Forest Service (Forest Service) will prepare an environmental impact statement (EIS) to analyze and disclose the potential environmental consequences for a proposed recreation complex development. The proposed Middle Kyle Complex is located on the Spring Mountains National Recreation Area (NRA) of the Humboldt-Toiyabe National Forest, approximately 35 miles northwest of Las Vegas, Nevada. The Forest Service is considering the construction and operation of new recreational opportunities and facilities within the middle Kyle Canyon area in order to reduce the recreational pressure on sensitive species and their habitats within the upper Kyle and Lee Canyons. The project may include such facilities as a visitor center, commercial retail shops, amphitheater, picnic areas, campsites, administrative facilities, hiking/biking trails, equestrian trails, and off-highway vehicle (OHV) trails. Construction would begin approximately one year following the signing of the Record of Decision.

DATES: Comments concerning the scope of the analysis must be received in writing on or before April 3, 2006. The Draft Environmental Impact Statement (DEIS) is expected in March 2007 and the Final Environmental Impact Statement (FEIS) is expected in October 2007. A public open house is proposed in March 2007, during the DEIS formal comment period and shortly following release of the DEIS.

ADDRESSES: Send written comments to Hal Peterson, Middle Kyle Complex Project Manager, Spring Mountains NRA, 4701 N. Torrey Pines Drive, Las Vegas, Nevada 89130. Email communications are encouraged, please include your name and return address in all written or electronic correspondence. Email messages should be sent to Middle_Kyle_Complex@fs.fed.us.

FOR FURTHER INFORMATION CONTACT: For additional information concerning this project, please contact Hal Peterson, Middle Kyle Complex Project Manager, Spring Mountains NRA, 4701 N. Torrey Pines Drive, Las Vegas, Nevada 89130; phone (702) 839-5572. Information about this EIS will be posted on the Internet at: http://www.fs.fed.us/r4/htnf/projects/smnra/middle_kyle_complex/home.shtml. This Web site will be used to post all public documents during the environmental review process and announce opportunities for public participation and comment.

SUPPLEMENTARY INFORMATION: Purpose and Need for Action: The Forest Service has determined a need for the development of new destination recreation, environmental education, visitor services, parking/transportation management and administrative facilities in the middle Kyle Canyon area of the Spring Mountains NRA. This need is in response to the increasing NRA visitation generated by the growth of the Las Vegas Metropolitan area, and the associated impacts on the environmentally sensitive areas in upper Kyle and Lee Canyons where the Forest Service developed recreation and administrative facilities are currently located.

The purpose for this action is to move the Spring Mountains NRA toward the desired condition for the area. Elements of the desired condition as stated in the Humboldt-Toiyabe NF Land Management and Resource Plan, the Spring Mountains NRA General Management Plan and the Clark County Multiple Species Habitat Conservation Plan include: Provide additional developed recreation facilities in appropriate locations to encourage use away from upper Kyle and Lee Canyons; Emphasize new facilities in lower Kyle and Lee Canyons (east of Highway 158); Provide public education and information about the Spring Mountains natural and cultural resources; Increase capability to monitor and manage visitor traffic in Kyle and Lee Canyons; Provide additional multiple use trail opportunities; Increase accessibility of trailheads at appropriate locations for equestrians; Divert public to other appropriate areas once site or road capacities have been reached; Develop a Spring Mountains NRA visitor center along the entrance to Kyle and/or Lee Canyons; and, Provide facilities that meet administrative needs, are cost effective, increase management presence and customer satisfaction, operate year-round, are located in the lower canyon and transfer some uses from Kyle Guard Station. Additionally, the Forest Service has established the goal that this project be developed in an environmentally and fiscally sustainable manner.

Proposed Action: The proposed action has been developed by the Forest Service to respond to the need for action generated by the difference between the area's existing condition and its desired condition with the respect to the management direction for the area. The proposed action would provide a broad range of recreational and environmental education opportunities while preserving the canyon's key natural and cultural resources. Recreational-related facilities would generate revenue that would be returned to the project to help pay for annual operation and maintenance costs.

The proposed project is strategically located adjacent to the most heavily traveled entrance to the Spring Mountains NRA along the Kyle Canyon Road (Nevada State Route #157), and east of the Deer Creek Highway (Nevada State Route #158). Most of the proposed development would be located away from environmentally and culturally sensitive areas. The project area encompasses approximately 2,500 acres of National Forest System lands to provide adequate room to minimize impacts to sensitive resource areas and to provide for a logical grouping of uses to minimize user conflicts and enhance visitor experience. Many portions of the project area would remain undeveloped.

The main development area, the Village, would be located on the disturbed areas of the recently purchased former golf course. Facilities proposed for the Village area include a 12,000 square feet (sq ft) visitor center, 4,200 sq ft indoor group meeting area, retail space for 7 shops, food concession area for 3 vendors, a 2,200 sq ft residential area (security/artist-in-residence), 60,000 sq ft plaza area plus 40,000 sq ft plaza landscaped/play areas, 1500 seat amphitheater, 3 group picnic sites, a 185,000 sq ft commons area, a 1200 space underground parking structure plus 115 surface parking spaces, 900 linear feet of Village access roadway. In addition, a 2,000 sq ft transit center is proposed for this location. (Note: all dimensions stated are approximate.)

Adjacent to the Village area is the Village Valley which may include: 21,000 sq ft pond(s), approximately 1 acre of site restoration around the pond(s), 3 outdoor classrooms, approximately 6 acres of Kyle Canyon wash restoration and roughly 21 acres of upland restoration, 2.3 miles of paved trails, 2.7 miles of unpaved trails, and a connector trail from the Village Valley area to the existing Kyle Administrative Site adjacent to the Kyle Canyon wash.

The main picnic and camping areas are proposed east of the Village area, and on the south side of State Route 157. The picnic areas would include 245 individual sites, 3 group sites, 4 restroom structures, 116 parking spaces and 1.4 miles of road. The camping areas would include 210 tent/RV sites with hook-ups, 2 small group sites (15 spaces each), one large group camping area (with 100 spaces), 3 shower buildings, 4 restroom buildings, and 2.5 miles of road. This area could also include pedestrian and bicycle trails with 4.3 miles of unpaved trail and 3.2 miles of paved trail.

Single and multiple use hiking, biking and equestrian trails (10.2 miles), a horse rental concession area, and a 10 unit equestrian campground with one restroom building are proposed on the north side of State Route 157. An administrative site is also proposed on the north side of State Route 157. Administrative facilities may include: 10,000 sq ft of fire and administrative office/warehouse space, 2,000 sq ft concessionaire office space, 3,000 sq ft research center space, 2 helipads, 3 residential buildings, a barracks, a bridge and 1.7 miles of access road.

A 10 parking space OHV Trailhead to access existing OHV trails is proposed adjacent to State Route 157, northwest from the intersection of State Route 157 with Harris Springs Road.

At the east end of the project area, facilities adjacent to the Harris Springs Road, south of State Route 157, may include a short access road and trailhead with 8 parking spaces to access a 2.3 mile hiking trail in the canyon bottom. Facilities in the area south of the Kyle Canyon Wash, off of the Harris Springs Road, may include a trailhead with 40 parking spaces, a mountain bike rental concession and 8.4 miles of mountain bike/hiking trails.

Other anticipated activities include development of infrastructure to support the planned facilities (roads, utilities, wastewater treatment, etc.); State Route 157 highway improvements to provide for safe intersections for vehicles and pedestrians; restoration and revegetation of abandoned roads, trails and utility sites; removal of illegally dumped materials; a defined equestrian trail crossing for State Route 158; removal of non-native trees and shrubs in the Village area; restoration of the existing historic Civilian Conservation Corps (CCC) Kyle Guard Station for managed public use; closure of selected Forest Service Roads to motor vehicles; and, conversion of selected Forest Service Roads to non-motorized trail use.

More detailed information on the proposed action, including maps, may be obtained by visiting the Forest Service Web page at http://www.fs.fed.us/r4/htnf/projects/smnra/middle_kyle_complex/home.shtml and following the link to the Middle Kyle Canyon Framework Plan.

A no action alternative will also be considered.

Lead and Cooperating Agencies: The Forest Service will be the lead Federal agency in accordance with 40 Code of Federal Regulations (CFR) 1501.5(b) and is responsible for the preparation of the EIS. Scoping will determine if any cooperating agencies are needed.

Responsible Official: The USDA Forest Service responsible official for this EIS is Robert L. Vaught, Forest Supervisor, Humboldt-Toiyabe National Forest Supervisor's Office, 1200 Franklin Way, Sparks, Nevada 89431; phone (775) 331-6444.

Nature of Decision To Be Made: The Responsible Official will decide whether to implement the action as proposed or modified, or to take no action. The Forest Supervisor will also decide what mitigation measures and monitoring will be required.

Scoping Process: Public participation will be very important throughout the NEPA analysis process. The Forest Service will be seeking information, comments, and assistance from Federal, State, and local agencies, American Indian tribes, as well as other individuals and organizations that may be interested in or affected by the proposed project.

Preliminary Issues: No preliminary planning issues were identified.

Comment Requested: This notice of intent initiates the scoping process, which guides the development of the EIS. Comments submitted during the scoping process should be in writing and should be specific to the purpose and need and the proposed action. The comments should describe as clearly and completely as possible any issues or concerns the commenter has with the proposal.

Early Notice of Importance of Public Participation in Subsequent Environmental Review: A DEIS will be prepared for comment. The comment period on the DEIS will be 45 days from the date the Environmental Protection Agency publishes the notice of availability in the Federal Register.

At this early stage, the Forest Service believes it is important to give reviewers notice of several court rulings related to public participation in the environmental review process. First, reviewers of DEISs must structure their participation in the environmental review of the proposal in a way that it is meaningful and alerts an agency to the reviewer's position and contentions [see “Vermont Yankee Nuclear Power Corp. v. NRDC, 435 U.S. 519, 553 (1978)”]. Also, environmental objections that could be raised at the DEIS stage but that are not raised until after completion of the FEIS may be waived or dismissed by the courts [see “City of Angoon v. Hodel, 803 F.2d 1016, 1022 (9th Cir. 1986) and Wisconsin Heritages, Inc. v. Harris, 490 F. Supp. 1334, 1338 (E.D. Wis. 1980)]. Because of these court rulings, it is very important that those interested in this proposed action participate by the close of the 45-day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the NEPA at 40 CFR 1503.3 in addressing these points.

Comments received, including the names and addresses of those who comment, will be considered part of the public record on this proposal and will be available for public inspection (see 40 CFR 1501.7 and 1508.22; Forest Service Handbook 1909.15, Section 21).

Dated: February 13, 2006.
Robert L. Vaught,
Forest Supervisor.

[FR Doc. E6-2326 Filed 2-17-06; 8:45 am]

BILLING CODE 3410-11-P